FEDERAL COMMUNICATIONS COMMISSION

Radio Broadcasting Services; AM or FM Proposals To Change the Community of License

AGENCY: Federal Communications Commission.

ACTION: Notice, request for comments.

SUMMARY: The following applicants filed AM or FM proposals to change the community of License: Christopher W. Johnson, Station WAMI, Facility ID 66212, BP-20170627ABG, From Opp, AL, To Maplesville, AL: Midwest Communications, Inc., Station WNFN, Facility ID 29862, BPH-20170627AAL, From Millersville, TN, To Franklin, TN; R & B Communications, Inc., Station WWTM, Facility ID 54328, BP-20170711AAQ, From Decatur, AL, To Mooresville, AL; Sebago Broadcasting Company, Station WCTG, Facility ID 88405, BPH-20170707AAP, From Chincoteague, VA, To Eden, MD; Southern Wabash Communications of Middle Tennessee, Inc., Station WBGB, Facility ID 172966, BPED-20170526ABK, From Scottsville, KY, To Portland, TN; Sun Valley Media Group, LLC., Station KPTO, Facility ID 129638, BP-20170531ABF, From Pocatello, ID, To Hailey, ID; Valleydale Broadcasting, LLC., Station WZNN, Facility ID 183374, BPH-20170627ABF, From Maplesville, AL, To Holtville, AL.

DATES: The agency must receive comments on or before September 25, 2017.

ADDRESSES: Federal Communications Commission, 445 Twelfth Street SW., Washington, DC 20554.

FOR FURTHER INFORMATION CONTACT: Tung Bui, 202-418-2700, tung.bui@fcc.gov.

SUPPLEMENTARY INFORMATION: The full text of these applications is available for inspection and copying during normal business hours in the Commission's Reference Center, 445 12th Street SW., Washington, DC 20554 or electronically via the Media Bureau's Consolidated Data Base System, http://licensing.fcc.gov/prod/cdbs/pubacc/prod/cdbs_pa.htm.

Federal Communications Commission.
James D. Bradshaw,
Deputy Chief, Audio Division, Media Bureau.

[FR Doc. 2017-15503 Filed 7-24-17; 8:45 am]

BILLING CODE 6712-01-P